NATIONAL AERONAUTICS AND SPACE ADMINISTRATION

[Notice (15-068)]

Privacy Act of 1974; Privacy Act System of Records

AGENCY: National Aeronautics and Space Administration (NASA).

ACTION: Notice of proposed revisions to existing Privacy Act systems of records Appendix.

SUMMARY: Pursuant to the provisions of the Privacy Act of 1974 (5 U.S.C. 552a), the National Aeronautics and Space Administration is issuing public notice of its proposal to update its standard Appendix A applicable to all NASA Systems of Records, as set forth below under the caption SUPPLEMENTARY INFORMATION.

DATES: Submit comments within 30 calendar days from the date of this publication. The changes will take effect at the end of that period, if no adverse comments are received.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: This system notice changes the name of Location 3 of Appendix A used with NASA systems of records.

Renee P. Wynn,
NASA Chief Information Officer.

Appendix A

Location Numbers and Mailing Addresses of NASA Installations at Which Records Are Located

Location 1. NASA Headquarters, National Aeronautics and Space Administration Washington, DC 20546-0001

Location 2. Ames Research Center, National Aeronautics and Space Administration, Moffett Field, CA 94035-1000

Location 3. Armstrong Flight Research Center, National Aeronautics and Space Administration, PO Box 273, Edwards, CA 93523-0273

Location 4. Goddard Space Flight Center, National Aeronautics and Space Administration, Greenbelt, MD 20771-0001

Location 5. Lyndon B. Johnson Space Center, National Aeronautics and Space Administration, Houston, TX 77058-3696

Location 6. John F. Kennedy Space Center, National Aeronautics and Space Administration, Kennedy Space Center, FL 32899-0001

Location 7. Langley Research Center, National Aeronautics and Space Administration, Hampton, VA 23681-2199

Location 8. John H. Glenn Research Center at Lewis Field, National Aeronautics and Space Administration, 21000 Brookpark Road, Cleveland, OH 44135-3191

Location 9. George C. Marshall Space Flight Center, National Aeronautics and Space Administration, Marshall Space Flight Center, AL 35812-0001

Location 10. HQ NASA Management Office-JPL, National Aeronautics and Space Administration, 4800 Oak Grove Drive, Pasadena, CA 91109-8099

Location 11. John C. Stennis Space Center, National Aeronautics and Space Administration, Stennis Space Center, MS 39529-6000

Location 12. JSC White Sands Test Facility, National Aeronautics and Space Administration, PO Drawer MM, Las Cruces, NM 88004-0020

Location 13. GRC Plum Brook Station, National Aeronautics and Space Administration, Sandusky, OH 44870

Location 14. MSFC Michoud Assembly Facility, National Aeronautics and Space Administration, PO Box 29300, New Orleans, LA 70189

Location 15. NASA Independent Verification and Validation Facility (NASA IV&V), 100 University Drive, Fairmont, WV 26554

Location 16. New Jersey Post of Duty, 402 East State Street, Trenton, NJ 08608

Location 17. Western Field Office, Glenn Anderson Federal Building, 501 West Ocean Blvd., Long Beach, CA 90802-4222

Location 18. NASA Shared Services Center (NSSC), Building 5100, Stennis Space Center, MS 39529-6000

Location 19. NASA Wallops Flight Facility, Wallops Island, VA 23337

[FR Doc. 2015-25358 Filed 10-5-15; 8:45 am]

BILLING CODE 7510-13-P